DEPARTMENT OF TRANSPORTATION

Federal Highway Administration

Agency Information Collection Activities: Submission for OMB Review

AGENCY: Federal Highway Administration (FHWA), DOT.

ACTION: Notice.

SUMMARY: The FHWA has forwarded the information collection request described in this notice to the Office of Management and Budget (OMB) for review and comment. We published a Federal Register Notice with a 60-day public comment period on this new information collection on October 30, 2000 (65 FR 64739). We are required to publish this notice in the Federal Register by the Paperwork Reduction Act of 1995.

DATES: Please submit comments by March 30, 2001.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information.

FOR FURTHER INFORMATION CONTACT: Mr. Ed Kashuba, 202-366-0160, Office of Highway Policy Information, Policy Service Business Unit, Federal Highway Administration, 400 7th Street, SW., Washington, DC 20590-0001. Office hours are from 6:45 a.m. to 4:15 p.m., Monday through Friday, except Federal holidays.

SUPPLEMENTARY INFORMATION: Title: Heavy Vehicle Travel Information System (HVTIS).

Abstract: The FHWA is developing the HVTIS to analyze the amount and nature of truck travel at the national and regional levels. The information would be used by the FHWA and other DOT administrations to evaluate changes in truck travel in order to assess impacts on highway safety; the role of travel in economic productivity; impacts of changes in truck travel on infrastructure condition; and maintaining our mobility while protecting the human and natural environment. In conducting the data collection, the FHWA will be requesting that State Departments of Transportation provide periodic reporting of vehicle classification and weight data which they collect as part of their existing traffic data collection programs. The majority of States collect this vehicle weight data periodically throughout the year using weigh-in-motion devices and also collect vehicle classification data continuously. The data will allow transportation professionals at the Federal, State and metropolitan levels to make informed decisions about policies and plans.

Respondents: 51 State Transportation Departments, including the District of Columbia.

Estimated Annual Burden Hours:

Data type | Reportings per year per site | Number of sites per State | Minutes per site per reporting | Hours per year per State
Site Description | 1 | 60 | 1 | 1
Vehicle Classification | 12 | 40 | 5 | 40
Truck Weight | 1 | 10 | 6 | 1
Total Volume | 12 | 10 | 4 | 8
Total Hours per State per Year |  |  |  | 50

FHWA estimates that the average State DOT operates 40 continuous vehicle classification installations, an additional 10 sites that provide continuous traffic volume data, and 10 weigh-in-motion sites. It is estimated that processing 48 hours of weigh-in-motion data would take 6 minutes per site, processing one month of vehicle classification data would take 5 minutes per site and processing one month of continuous traffic volume data would take 4 minutes per site. The file describing each of the data collection sites is to be submitted annually, and it is estimated that processing will take 1 minute per site. It will take approximately 50 hours per State per year to supply the requested information. Reporting is expected from each of the State DOTs, as well as the District of Columbia, which will result in a total estimate of 2,550 annual burden hours nationally (51 respondents × 50 hours).

Authority: The Paperwork Reduction Act of 1995; 44 U.S.C. Chapter 35, as amended; and 49 CFR 1.48.

Dated: February 21, 2001.
James R. Kabel,
Chief, Management Programs and Analysis Division.

[FR Doc. 01-4838 Filed 2-27-01; 8:45 am]

BILLING CODE 4910-2-P